DEPARTMENT OF DEFENSE

Office of the Secretary

Establishment of Missile Defense Advisory Committee

AGENCY: Department of Defense.

ACTION: Notice of establishment.

SUMMARY: The Missile Defense Advisory Committee (MDAC) is being established in consonance with the public interest, and in accordance with the provisions of Pub. L. 92-463, the “Federal Advisory Committee Act.”

The MDAC shall provide the Department of Defense advice on all matters relating to missile defense, including system development, technology, program maturity and readiness of configurations of the ballistic Missile Defense System (BMDS) to enter the acquisition process.

The Committee shall be composed of 5-10 selected leaders from government and the private sector who are recognized authorities in defense policy, acquisition, strategy implications, capability-based requirements process, and other technical areas relating to the missile defense program. The committee will be balanced in terms of the functions to be performed, points of view to be considered and will include subject matter experts knowledgeable of BMDS programs. In addition, the committee may consult with experts in academia and industry.

FOR FURTHER INFORMATION CONTACT: Mrs. Phyllis Goldsmith, DoD Committee Management Officer, 703-588-8153.

Dated: August 9, 2004.
L.M. Bynum,
Alternate, OSD Federal Register, Liaison Officer, Department of Defense.

[FR Doc. 04-18492 Filed 8-12-04; 8:45 am]

BILLING CODE 5001-06-M